DEPARTMENT OF AGRICULTURE

Forest Service

Angeles National Forest, California; Tehachapi Renewable Transmission Project, Supplemental Draft EIS

AGENCY: Forest Service, USDA.

ACTION: Notice of intent to prepare a supplemental environmental impact statement.

SUMMARY: The Forest Service will prepare a Supplemental Draft Environmental Impact Statement (SDEIS) to assess the impacts of the Station Fire and other project changes affecting National Forest System (NFS) lands. After the public review period for the SDEIS, the Forest Service will issue its Final EIS. Following release of the Final EIS, the Forest Service will issue a Record of Decision (ROD) to document the decision to either approve or deny the requested Special Use authorization for the Project in response to the application received from Southern California Edison for construction of a series of transmission system improvements to deliver electricity from new wind energy projects in eastern Kern County. The proposed project would be located in Kern, Los Angeles, and San Bernardino counties. The purpose of the project is to provide the electrical facilities necessary to reliably interconnect and integrate in excess of 700 megawatts (MW) and up to approximately 4,500 MW of new wind generation in the Tehachapi Wind Resource Area, currently being planned or expected in the future, thereby assisting SCE and other California utilities to comply with California's Renewables Portfolio Standard (RPS) goals in an expedited manner. It would also further address the reliability needs of the California Independent System Operator (CATS 0) controlled grid due to projected load growth in the Antelope Valley, and address existing constraints in the transmission system south of the Lugo Substation in Hesperia, California. As the NEPA Lead Agency for the project, the USDA Forest Service will conduct a detailed review of the impacts of the Station Fire which burned approximately 251 square miles of NFS lands in the Angeles National Forest between August 26, 2009 and October 16, 2009. The burned area includes portions of Segments 6 and 11 of the project. An estimated 75% of the project area on National Forest lands was affected.

Changes to the affected environment will be addressed to assess the impacts of the Station Fire. In addition, project changes affecting NFS lands, which may include new helicopter landing/staging sites (a.k.a. fly-yards), pulling/splicing locations, alternate access roads, and changes in tower design will be analyzed in the SDEIS. The USDA Forest Service is providing notice of this analysis so that interested and affected individuals are aware of how they may participate and contribute to the final decision on the TRTP by the Forest Service.

DATES: The SDEIS is expected to be published May 1, 2010. A 45-day comment period will occur following publication of an NOA in the Federal Register. Based on this schedule, comments on the information contained in the SDEIS would need to be received by June 15, 2010. The Final EIS is anticipated in September 2010. Project scoping was held in 2007. No additional scoping effort will occur as part of the SDEIS preparation process.

ADDRESSES: To request a copy of the SDEIS or Final ETS and/or to send written comments, please write to the Angeles National Forest, c/o Aspen Environmental Group, 30423 Canwood Street, Suite 215, Agoura Hills, CA 91301. Alternately, electronic comments may be sent to TRTP@aspeneg.com. Electronic comments must be submitted as part of the actual e-mail message, or as an attachment in plain text (.txt), Microsoft Word (.doc), rich text format (.rtf), or portable document format (.pdf). Information about the Supplemental EIS and the environmental review process will be posted on the Internet at: http://www.fs.fed.us/r5/angeles/projects/. This site will be used to post links to all public documents during the Supplemental EIS process.

FOR FURTHER INFORMATION CONTACT: Justin Seastrand, Special Uses Coordinator, Forest Service, Angeles National Forest, 701 N. Santa Anita Ave., Arcadia, CA 91006, phone: (626) 574-5278. For additional information related to the project on non-NFS lands, contact John Boccio, California Public Utilities Commission (CNJC), .505 Van Ness Avenue, San Francisco, CA 94102; phone: (415) 703-2641. Project information can also be requested by leaving a voice message or sending a fax to the Project Information Hotline at (888) 331-9897.

Responsible Official: The responsible official will be Jody Noiron, Forest Supervisor, Angeles National Forest, 701 North Santa Anita Avenue, Arcadia, CA, 91006.

SUPPLEMENTARY INFORMATION: Lead and Cooperating Agencies. The USDA Forest Service is the lead agency, in accordance with 40 CFR 1501.5(b), and is responsible for the preparation of the SDEIS and Final EIS. The Army Corps of Engineers is a cooperating agency.

Comment. A SDETS will be prepared and available for public comment. The comment period on the SDEIS will be 45 days from the date the Environmental Protection Agency publishes the Notice of Availability (NOA) in the Federal Register. To assist the Forest Service in identifying and considering issues and concerns on the analysis of the changed environmental conditions due to the Station Fire and project changes since the publication of the Draft EIS, comments on the SDEIS should be as specific as possible. It is also helpful if comments refer to specific pages or chapters of the SDEIS.

Comments may also address the adequacy of the SDEIS. Comments received on the SDEIS, including names and addresses of those who comment, will be considered part of the public record and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)1. Also, environmental objections that could be raised at the draft EIS stage but that are not raised until after completion of the final EIS may be waived or dismissed by the courts [City of Angoon v. Harris, 490 F. Supp. 1334, 1338 (E.D. Wis. 1980)]. Because of these court rulings, it is very important that those interested in this process participate by the close of the 45-day comment period so that substantive comments and objections are made available to the Forest Service at a time when it can meaningfully consider them and respond to them in the final EIS.

Reviewers may wish to refer to the Council on Environmental Quality Regulations for implementing the procedural provisions of the National Environmental Policy Act at 40 CFR 1503.3 in addressing these points.

In the final EIS, the Forest Service is required to respond to substantive comments received during the comment period for the draft and supplemental draft EIS's. The Forest Service is the lead agency and the responsible official is the Forest Supervisor, Angeles National Forest. The responsible official will decide whether and how to issue Special Use authorizations for the proposed project or alternatives. The responsible official will also decide how to mitigate impacts of these actions and will determine when and how monitoring of effects will take place.

The Tehachapi Renewable Transmission Project decision and the reasons for the decision will be documented in the record of decision. That decision will he subject to Forest Service Appeal Regulations (35 CFR part 215).

Dated: January 27, 2010.
Marty Dumpis,
Deputy Forest Supervisor.

[FR Doc. 2010-2263 Filed 2-5-10; 8:45 am]

BILLING CODE P